ENVIRONMENTAL PROTECTION AGENCY

[EPA-HQ-OAR-2003-0041; 11852-01-OAR]

Agency Information Collection Activities; Submission to the Office of Management and Budget for Review and Approval; Comment Request; RadNet (Renewal)

AGENCY: Environmental Protection Agency (EPA).

ACTION: Notice.

SUMMARY: The Environmental Protection Agency (EPA) has submitted an information collection request (ICR), RadNet (EPA ICR Number 0877.15 OMB Control Number 2060-0015) to the Office of Management and Budget (OMB) for review and approval in accordance with the Paperwork Reduction Act. This is a proposed extension of the ICR, which is currently approved through March 31, 2024. Public comments were previously requested via the Federal Register on June 19, 2023 during a 60-day comment period. This notice allows for an additional 30 days for public comments.

DATES: Comments must be submitted on or before April 24, 2024.

ADDRESSES: Submit your comments, referencing Docket ID No. EPA-HQ-OAR-2003-0041, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: John Griggs, OAR/ORIA/NAREL, Environmental Protection Agency, National Analytical Radiation Environmental Laboratory, 540 South Morris Ave., Montgomery, AL 36115; telephone number: (334) 270-3400; fax number: (334) 270-3450; email address: griggs.john@epa.gov.

SUPPLEMENTARY INFORMATION: This is a proposed extension of the ICR, which is currently approved through 3/31/2024. An agency may not conduct or sponsor and a person is not required to respond to a collection of information unless it displays a currently valid OMB control number.

Public comments were previously requested via the Federal Register on 6/20/2023 during a 60-day comment period (88 FR 39845). This notice allows for an additional 30 days for public comments. Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: RadNet is a national network of stations collecting environmental media that include air, precipitation, and drinking water. Samples are sent to EPA's National Analytical Radiation Environmental Lab (NAREL) in Montgomery, Alabama, where they are analyzed for radioactivity. RadNet provides emergency response/homeland security and ambient monitoring information on levels of environmental radiation across the nation. All station operators participate in RadNet voluntarily. Station operators complete information forms that accompany the samples. The forms request information pertaining to sample type, sample location, start and stop date and times for sampling, length of sampling period, and volume represented. Data from RadNet are made available regularly on the Agency websites—Envirofacts and the EPA website www.epa.gov/radnet.

Form numbers: RadNet Air Particulate Sample (EPA Form 5900-24); RadNet Precipitation Report Form (EPA Form 5900-27); RadNet Drinking Water Report Form (EPA Form 5900-29); and RadNet Supply Request Form (EPA Form 5900-23).

Respondents/affected entities: Primarily Tribal and Local Officials.

Respondent's obligation to respond: Voluntary.

Estimated number of respondents: 213.

Frequency of response: Varies depending upon sample media type. Responses vary from twice weekly to quarterly.

Total estimated burden: 3,640 hours (per year). Burden is defined at 5 CFR 1320.03(b).

Total estimated cost: $2,622,124 (per year), includes annualized capital costs, operational costs, and maintenance costs.

Changes in estimates: There is a 2.2 percent reduction in burden from 3,722 hours annually. While the RadNet network is fully established and operating with essentially no changes expected, 30% of the drinking water sampling locations have not responded since the beginning of the COVID-19 pandemic. There is a 4.5 percent increase in costs due to increases in Federal and contractor salaries and cost of goods and supplies.

Courtney Kerwin,
Director, Regulatory Support Division.

[FR Doc. 2024-06170 Filed 3-22-24; 8:45 am]

BILLING CODE 6560-50-P